FEDERAL COMMUNICATIONS COMMISSION

[OMB 3060-0185; FR ID 306693]

Information Collection Being Reviewed by the Federal Communications Commission Under Delegated Authority

AGENCY: Federal Communications Commission.

ACTION: Notice and request for comments.

SUMMARY: As part of its continuing effort to reduce paperwork burdens, and as required by the Paperwork Reduction Act (PRA) of 1995, the Federal Communications Commission (FCC or Commission) invites the general public and other Federal agencies to take this opportunity to comment on the following information collections. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection burden on small business concerns with fewer than 25 employees. The FCC may not conduct or sponsor a collection of information unless it displays a currently valid OMB control number. No person shall be subject to any penalty for failing to comply with a collection of information subject to the PRA that does not display a valid OMB control number.

DATES: Written PRA comments should be submitted on or before October 6, 2025. If you anticipate that you will be submitting comments but find it difficult to do so within the period of time allowed by this notice, you should advise the contact listed below as soon as possible.

ADDRESSES: Direct all PRA comments to Cathy Williams, FCC, via email PRA@fcc.gov and to Cathy.Williams@fcc.gov.

FOR FURTHER INFORMATION CONTACT: For additional information about the information collection, contact Cathy Williams at (202) 418-2918.

SUPPLEMENTARY INFORMATION:

OMB Control Number: 3060-0185.

Title: Section 73.3613, Availability of Contracts.

Form Number: N/A.

Respondents: Business or other for-profit entities and Not-for-profit institutions.

Number of Respondents and Responses: 2,400 respondents; 2,400 responses.

Estimated Time per Response: 0.25 to 0.5 hours.

Frequency of Response: On-occasion reporting requirement, Recordkeeping requirement, Third-party disclosure requirement.

Obligation to Respond: Required to obtain or retain benefits. The statutory authority for this information collection is contained in sections 154(i) and 303 the Communications Act of 1934, as amended.

Total Annual Burden: 975 hours.

Total Annual Cost: $135,000.

Needs and Uses: 47 CFR 73.3613 requires each licensee or permittee of a commercial or noncommercial AM, FM, TV or International broadcast station shall provide the FCC with copies of the following contracts, instruments, and documents together with amendments, supplements, and cancellations (with the substance of oral contracts reported in writing), within 7 days of a request by the FCC.

Federal Communications Commission.
Marlene Dortch,
Secretary.

[FR Doc. 2025-14969 Filed 8-6-25; 8:45 am]

BILLING CODE 6712-01-P